DEPARTMENT OF ENERGY

DOE/NSF High Energy Physics Advisory Panel

AGENCY: Office of Science, Department of Energy.

ACTION: Notice of open meeting.

SUMMARY: This notice announces a virtual meeting of the DOE/NSF High Energy Physics Advisory Panel (HEPAP). The Federal Advisory Committee Act requires that public notice of these meetings be announced in the Federal Register.

DATES: Monday, August 7, 2023, 10 a.m. to 4 p.m. EDT.

ADDRESSES: This meeting is open to the public. This meeting will be held digitally via Zoom. Information on how to participate can be found on the website closer to the meeting date at https://science.osti.gov/hep/hepap/meetings/.

FOR FURTHER INFORMATION CONTACT: John Kogut, Executive Secretary; High Energy Physics Advisory Panel (HEPAP); U.S. Department of Energy; Office of Science; SC-35/Germantown Building, 1000 Independence Avenue SW, Washington, DC 20585; Telephone: (301) 903-1298; Email: John.Kogut@science.doe.gov.

SUPPLEMENTARY INFORMATION:

Purpose of Meeting: To introduce new HEPAP members, discuss the ongoing International Benchmarking study and discuss the progress and plan for a new Particle Physics Project Prioritization Panel (P5) report.

Tentative Agenda:

• Brief update from DOE—Glen Crawford

• Brief update from NSF—Jim Shank

• Discussion of International Benchmarking Study—Patricia McBride

• Discussion of the P5 Process and Timeline—Hitoshi Murayama

• Discussion

Public Participation: The meeting is open to the public. A webcast of this meeting will be available. Please check the website below for updates and information on how to view the meeting. If you would like to file a written statement with the Committee, you may do so either before or after the meeting. If you would like to make oral statements regarding any of these items on the agenda, you should contact John Kogut, (301) 903-1298, or by email at John.Kogut@science.doe.gov. You must make your request for an oral statement at least five business days before the meeting. Reasonable provision will be made to include the scheduled oral statements on the agenda. The Chairperson of the Panel will conduct the meeting to facilitate the orderly conduct of business. Public comment will follow the 10-minute rule.

Minutes: The minutes of the meeting will be available on the High Energy Physics Advisory Panel website at https://science.osti.gov/hep/hepap/meetings/.

Signed in Washington, DC, on July 7, 2023.
LaTanya Butler,
Deputy Committee Management Officer.

[FR Doc. 2023-14813 Filed 7-12-23; 8:45 am]

BILLING CODE 6450-01-P